DEPARTMENT OF COMMERCE

Foreign-Trade Zones Board

[S-140-2020]

Approval of Subzone Expansion; Hyster-Yale Group, Inc. Berea, Kentucky

On August 12, 2020, the Executive Secretary of the Foreign-Trade Zones (FTZ) Board docketed an application submitted by the Louisville & Jefferson County Riverport Authority, grantee of FTZ 29, requesting an expansion of Subzone 29I subject to the existing activation limit of FTZ 29, on behalf of Hyster-Yale Group, Inc., in Berea, Kentucky.

The application was processed in accordance with the FTZ Act and Regulations, including notice in the Federal Register inviting public comment (85 FR 50801-50802, August 18, 2020). The FTZ staff examiner reviewed the application and determined that it meets the criteria for approval. Pursuant to the authority delegated to the FTZ Board Executive Secretary (15 CFR Sec. 400.36(f)), the application to expand Subzone 29I was approved on October 20, 2020, subject to the FTZ Act and the Board's regulations, including Section 400.13, and further subject to FTZ 29's 2,000-acre activation limit.

Dated: October 20, 2020.
Andrew McGilvray,
Executive Secretary.

[FR Doc. 2020-23533 Filed 10-22-20; 8:45 am]

BILLING CODE 3510-DS-P